DEPARTMENT OF LABOR

Occupational Safety and Health Administration

[Docket No. OSHA-2010-0032]

29 CFR Parts 1910 and 1926

Interpretation of OSHA's Provisions for Feasible Administrative or Engineering Controls of Occupational Noise

AGENCY: Occupational Safety and Health Administration (OSHA), Labor.

ACTION: Proposed Interpretation; extension of written comment period.

SUMMARY: On October 19, 2010, OSHA published a notice of proposed interpretation entitled Interpretation of OSHA's Provisions for Feasible Administrative or Engineering Controls of Occupational Noise, giving interested parties 60 days to comment. The comment period is being extended by 90 days to give interested parties additional time to assess the impact of the proposed interpretation and submit comments.

DATES: Comments must be submitted (postmarked or sent) by March 21, 2011.

ADDRESSES: You may submit comments by any of the following methods:

Electronically: You may submit comments and attachments electronically at http://www.regulations.gov, the Federal Rulemaking Portal. Follow the instructions online for making electronic submissions;

Fax: You may fax submissions not longer than 10 pages, including attachments, to the OSHA Docket Office at 202-693-1648.

Mail, hand delivery, express mail, messenger and courier service: If you use this option, you must submit three copies of your comments and attachments to the OSHA Docket Office, Docket No. OSHA-2010-0032, U.S. Department of Labor, Room N-2625, 200 Constitution Avenue, NW., Washington, DC 20210. Deliveries (hand, express mail, messenger and courier service) are accepted from 8:15 a.m.-4:45 p.m., e.t.

Instructions: All submissions must include the agency name and the OSHA docket number for this interpretation (OSHA-2010-0032). Submissions are placed in the public docket without change and may be accessed online http://www.regulations.gov. Be careful about submitting personal information such as social security numbers and birth dates.

Docket: To read or download submissions or other material in the docket, go to http://www.regulations.gov or the OSHA Docket Office at the address above. All documents in the docket are listed in the http://www.regulations.gov index; some information (e.g., copyrighted material), however, cannot be read or downloaded at the Web site. All submissions, including copyrighted material, can be examined or copied at the OSHA Docket Office.

FOR FURTHER INFORMATION CONTACT: General information or press inquiries: MaryAnn Garrahan, Acting Director, Office of Communications, Room N-3647, OSHA, U.S. Department of Labor, 200 Constitution Avenue, NW., Washington, DC 20210; telephone 202-693-1999.

For Technical Inquiries: Audrey Profitt, Senior Industrial Hygienist, Directorate of Enforcement Programs, Room N-3119, OSHA, U.S. Department of Labor, 200 Constitution Avenue, NW., Washington, DC 20210; telephone: 202-693-2190, or fax: 202-693-1681.

SUPPLEMENTARY INFORMATION:

Extension of the Comment Period

On October 19, 2010, OSHA published a notice of proposed interpretation entitled Interpretation of OSHA's Provisions for Feasible Administrative or Engineering Controls of Occupational Noise. The notice proposed to clarify that the term feasible administrative or engineering controls as used in the applicable sections of OSHA's General Industry and Construction Occupational Noise Exposure standards has its ordinary meaning of capable of being done. The Agency announced its intention to revise and clarify its current enforcement policy to reflect this interpretation, and solicited comments from interested parties within 60 days, ending on December 20, 2010.

OSHA's current enforcement policy for exposures less than 100 dBA has not reflected the noise standard's requirement that feasible engineering and administrative controls be used as the primary means of reducing noise exposure. Instead, the Agency has allowed many employers to rely upon a hearing conservation program, including the use of hearing protectors.

Excessive noise levels continue to be a cause of hearing loss in the nation's workplaces. Since 2004, the Bureau of Labor Statistics (BLS) has reported that over 125,000 workers have suffered significant, permanent hearing loss. In 2008 alone, BLS reported 22,000 hearing loss cases.

Two commenters, the National Association of Manufacturers and the Coalition for Workplace Safety (CWS), representing employers who would be affected by the proposed interpretation, have requested an extension of 90 days to assess the operating changes that their members would be required to make to comply with the interpretation. In addition, CWS cites the proximity of the current deadline to the winter holidays as an additional reason for the extension.

OSHA believes that these requests are reasonable. OSHA is interested in hearing from and carefully considering the views of affected persons before making a final decision on the proposed interpretation. Accordingly, to facilitate the submission of more thorough comments and help the agency assess the issues, OSHA is extending the comment period by 90 days from December 20, 2010 to March 21, 2011.

Authority: 29 U.S.C. 655; 29 CFR 1910.95(b)(1) & 1926.52(b); Secretary of Labor's Order 4-2010, 75 FR 55355, September 10, 2010.

Signed at Washington, DC, on December 7, 2010.
David Michaels,
Assistant Secretary of Labor for Occupational Safety and Health.

[FR Doc. 2010-31359 Filed 12-13-10; 8:45 am]

BILLING CODE 4510-29-P